DEPARTMENT OF TRANSPORTATION

National Highway Traffic Safety Administration

[Docket No. NHTSA-2008-0144; Notice 2]

Decision That Nonconforming 1997 and 1998 Left-Hand Drive and 1997 through 2001 Right-Hand Drive Jeep Cherokee Multipurpose Passenger Vehicles Are Eligible for Importation

AGENCY: National Highway Traffic Safety Administration, DOT.

ACTION: Notice of decision by the National Highway Traffic Safety Administration (NHTSA) that nonconforming 1997 and 1998 left-hand drive and 1997 through 2001 right-hand drive Jeep Cherokee multipurpose passenger vehicles are eligible for importation.

SUMMARY: This document announces a decision by NHTSA that nonconforming 1997 and 1998 left-hand drive (LHD) and 1997 through 2001 right-hand drive (RHD) Jeep Cherokee multipurpose passenger vehicles (MPVs) that were not originally manufactured to comply with all applicable Federal motor vehicle safety standards (FMVSS) are eligible for importation into the United States because (1) they are substantially similar to vehicles that were originally manufactured for sale in the United States and that were certified by their manufacturer as complying with the safety standards (the U.S.-certified version of the 1997 and 1998 LHD and 1997 through 2001 RHD Jeep Cherokee MPVs), and (2) they are capable of being readily altered to conform to the standards.

DATES: This decision is effective on Friday, February 27, 2009.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Auto Boutique, Ltd., of Costa Mesa, California (ABL) (Registered Importer 08-356), petitioned NHTSA to decide whether nonconforming 1997-2001 RHD Jeep Cherokee MPVs are eligible for importation into the United States. Shortly after ABL's petition was filed, U.S. Drive Right (USDR), of Spring Arbor, Michigan (Registered Importer 08-355) separately petitioned NHTSA to decide whether nonconforming 1997 and 1998 RHD and LHD Jeep Cherokee MPVs are eligible for importation into the United States. NHTSA published a combined notice of the petitions on September 17, 2008 (73 FR 53927) to afford an opportunity for public comment. The reader is referred to that notice for a thorough description of the petitions.

No comments were received in response to the notice of the petitions.

The ABL and USDR petitions differed in scope: USRD included LHD versions of the subject vehicles for model years 1997 and 1998 but did not address LHD or RHD 1999-2001 vehicles, while ABL only addressed RHD 1999-2001 vehicles.

The following discussion applies equally to both LHD and RHD vehicles. That is because in this unique case, the original manufacturer of the vehicles certified as conforming to all applicable FMVSS both LHD and RHD versions of the substantially similar U.S.-certified models in model years 1997-2001. Moreover, the description of the modifications required to convert these vehicles do not differ with respect to the driver's seating position.

The agency notes that the petitions differed significantly with respect to the need for alterations to conform the vehicles to applicable FMVSS. ABL did not indicate the need for any alterations other than adding labeling to meet the requirements of 49 CFR part 565, while USDR contended that the vehicles must be altered in order to meet Standards No. 101, 108, 120 and 208 and 49 CFR part 565. A complete description of the alterations described by the two petitioners can be found in the notice of petition.

To reconcile these differences, the agency has decided that all vehicles covered by this decision must be examined for compliance with Standards No. 101, 108, 120 and 208 as well as 49 CFR Part 565 and that RIs must demonstrate, in the conformity statements submitted for any vehicle imported under this eligibility decision, that each vehicle either conformed to the standard as originally manufactured or has been altered to conform by the RI.

Final Decision

Accordingly, on the basis of the foregoing, NHTSA has decided that nonconforming 1997 and 1998 LHD and 1997 through 2001 RHD Jeep Cherokee MPVs that were not originally manufactured to comply with all applicable FMVSS are substantially similar to nonconforming 1997 and 1998 LHD and 1997 through 2001 RHD Jeep Cherokee MPVs originally manufactured for sale in the United States and certified under 49 U.S.C. 30115, and are capable of being readily altered to conform to all applicable FMVSS.

Vehicle Eligibility Number for Subject Vehicles

The importer of a vehicle admissible under any final decision must indicate on the form HS-7 accompanying entry the appropriate vehicle eligibility number indicating that the vehicle is eligible for entry. VSP-516 is the vehicle eligibility number assigned to 1997 and 1998 LHD Jeep Cherokee MPVs and VSP-515 is the vehicle eligibility number assigned to 1997 through 2001 RHD Jeep Cherokee MPVs admissible under this notice of final decision.

Authority: 49 U.S.C. 30141(a)(1)(A) and (b)(1); 49 CFR 593.8; delegations of authority at 49 CFR 1.50 and 501.8.

Issued on February 27, 2009.
Claude H. Harris,
Director, Office of Vehicle Safety Compliance.

[FR Doc. E9-4808 Filed 3-5-09; 8:45 am]

BILLING CODE 4910-59-P